DEPARTMENT OF JUSTICE

Notice of Lodging of Proposed Consent Decree Under the Clean Water Act

On April 28, 2015, the Department of Justice filed a complaint and lodged a Consent Decree with the United States District Court for the Northern District of California pertaining to the cement manufacturing and limestone mining facility (“Facility”) in Cupertino, California owned by Hanson Permanente Cement, Incorporated (“Hanson”) and operated by Lehigh Southwest Cement Company (“Lehigh”). The complaint and proposed Consent Decree were filed contemporaneously in the matter of United States of America and People of the State of California by and through the California Regional Water Quality Control Board, San Francisco Bay Region v. Lehigh Southwest Cement Company and Hanson Permanente Cement, Incorporated, Civil Action No. 5:15-cv-01896 (N.D. Cal.).

The Consent Decree resolves claims under Sections 301 and 402 of the Clean Water Act, 33 U.S.C. 1311 and 1342, and related state law claims, arising from releases of selenium, mercury, hexavalent chromium, nickel, thallium, and other pollutants from the Facility to Permanente Creek. The Consent Decree provides that Lehigh and Hanson will pay a civil penalty of $2,550,000 to the United States and the State of California (with the United States and the State of California each receiving half of the civil penalty payment), and will install treatment for the pollutants described above in order to come into compliance with the Clean Water Act.

The publication of this notice opens a period for public comment on the Consent Decree. Comments should be addressed to the Assistant Attorney General, Environment and Natural Resources Division, and should refer to United States of America and People of the State of California by and through the California Regional Water Quality Control Board, San Francisco Bay Region v. Lehigh Southwest Cement Company and Hanson Permanente Cement, Incorporated, D.J. Ref. No. 90-5-1-1-10741. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $11.00 (25 cents per page reproduction cost) for the Consent Decree, payable to the United States Treasury.

Henry S. Friedman,
Assistant Section Chief, Environmental Enforcement Section, Environment and Natural Resources Division.

[FR Doc. 2015-10383 Filed 5-4-15; 8:45 am]

BILLING CODE 4410-15-P